INTERNATIONAL TRADE COMMISSION

[Investigation No. 731-TA-696 (Review)]

Pure Magnesium From China

Determination

On the basis of the record ¹ developed in the subject five-year review, the United States International Trade Commission determines,² pursuant to section 751(c) of the Tariff Act of 1930 (19 U.S.C. § 1675(c)), that revocation of the antidumping duty order on pure magnesium from China would be likely to lead to continuation or recurrence of material injury to an industry in the United States within a reasonably foreseeable time.

Background

The Commission instituted this review on April 3, 2000 (65 FR 17531, April 3, 2000) and determined on July 6, 2000 that it would conduct an expedited review (65 FR 45105, July 20, 2000).

The Commission transmitted its determination in this review to the Secretary of Commerce on August 31, 2000. The views of the Commission are contained in USITC Publication 3346 (August 2000), entitled Pure Magnesium from China: Investigation No. 731-TA-696 (Review).

Issued: September 5, 2000.
By order of the Commission.
Donna R. Koehnke,
Secretary.

¹ The record is defined in sec. 207.2(f) of the Commission's Rules of Practice and Procedure (19 CFR 207.2(f)).

² Commissioner Askey dissenting.

[FR Doc. 00-23337 Filed 9-11-00; 8:45 am]

BILLING CODE 7020-02-P